DEPARTMENT OF DEFENSE

Corps of Engineers, Department of the Army

Intent To Prepare a Draft Environmental Impact Statement for a Permit Application for the Proposed Hemet/San Jacinto Integrated Recharge and Recovery Program in San Jacinto, Riverside County, CA

AGENCY: U.S. Army Corps of Engineers, Los Angeles District, DoD.

ACTION: Notice of Intent (NOI).

SUMMARY: The U.S. Army Corps of Engineers (Corps), Los Angeles District, Regulatory Branch is considering an application from the Eastern Municipal Water District (EMWD) for a Department of the Army permit under Section 404 of the Clean Water Act to construct a groundwater recharge and storage facility in and adjacent to the San Jacinto River. The proposed project would consist of up to fifteen recharge basins (six in proposed Phase 1 and nine in proposed Phase 2) on approximately 100- acres in the San Jacinto River Channel, upgrades to two existing pump stations, a new approximately 7.7-mile-long water supply pipeline, up to ten extraction wells located west of the San Jacinto River, and up to six monitoring wells located near the western edge of the proposed recharge basins.

The Federal action involved in the project is the discharge of dredge and/or fill materials within waters of the United States. The Corps has determined that the potential impacts on the human environment from such activities may be adverse and significant. Therefore, in accordance with the National Environmental Policy Act (NEPA), the Corps will prepare an Environmental Impact Statement (EIS) prior to rendering a final decision on EMWD's permit application. The Corps may ultimately make a determination to grant or deny the permit or conditionally grant the permit. The Draft EIS is intended to be sufficient in scope to address the Federal and environmental issues concerning the proposed Federal permit action.

FOR FURTHER INFORMATION CONTACT: Questions and comments about the proposed action or Draft EIS should be addressed to Ms. Deanna L. Cummings, U.S. Army Corps of Engineers, Attn: 200401197, Los Angeles District, Regulatory Branch, 915 Wilshire Boulevard, Los Angeles, CA 90017.

SUPPLEMENTARY INFORMATION: 1. Project Site and Background Information. The proposed project would entail the recharge of up to 43,750 acre-feet per year of water in the Hemet/San Jacinto area of western Riverside County, California. (An acre-foot is equivalent to 325,850 gallons, roughly the amount of water that two southern California families of four uses in and around the house in one year.) The goals of the groundwater recharge project are to: Help meet water rights claims under a draft Settlement Agreement with the Soboba Band of Luiseño Indians; offset existing overdraft of the Hemet/San Jacinto area groundwater supply; provide an additional 15,000 acre-feet of annual water storage to help meet projected demand increases within EMWD's eastern service area; and provide up to 45,000 acre-feet of conjunctive use/drought management water storage, contributing to water storage goals identified by the CALFED Bay-Delta Program.

2. Proposed Action. The permit applicant's preferred alternative is to construct up to fifteen recharge ponds on an approximately 100-acre site in the San Jacinto River channel. This proposed recharge site is within unincorporated Riverside County near the cities of Hemet and San Jacinto, and near the San Jacinto River's confluences with Poppet and Bautista Creeks. The proposed project would entail the conveyance of State Water Project water to recharge basins located in the San Jacinto River. The potentially affected segment of the San Jacinto River normally is dry and only carries flows following storms or during winters with above-average rainfall. Water supplied to the recharge basins would infiltrate into the San Jacinto Basin, where it would be stored until it (or an equivalent amount of other groundwater in the basin) would be extracted by wells for consumptive use. In order to accomplish this recharge, the proposed project would require the following:

• A new, approximately 7.7-mile-long water supply pipeline extending from the EM-14 turnout on the Lakeview Pipeline (near Warren Road) to the proposed recharge basins at the San Jacinto River (this new pipeline would parallel an existing EMWD pipeline);

• Upgrades to the existing Warren Road and Commonwealth Avenue pump stations (located along the proposed water supply pipeline route);

• Up to fifteen new recharge basins on approximately 100- acres in the San Jacinto River channel;

• Up to eight extraction wells located west of the San Jacinto River; and

• Up to six monitoring wells located near the western edge of the proposed recharge basins.

In brief, water would be delivered to the proposed project area from California's State Water Project via the Lakeview Pipeline. Because the Lakeview Pipeline is located several miles west of the San Jacinto River, water would need to be conveyed to the recharge basins through an existing EMWD pipeline (Phase 1) and/or through a proposed new pipeline (Phase 2). Water conveyed to the San Jacinto River would be discharged into the proposed recharge basins, where the water would be allowed to infiltrate the groundwater supply under the river. EMWD would operate two types of wells in association with the proposed project: monitoring and extraction. As their name implies, the monitoring wells would allow EMWD to monitor groundwater levels and quality. Extraction wells would be used to extract water from the groundwater supply, where it would be piped into EMWD's existing network of water conveyance, storage and treatment facilities.

3. Issues. There are several potential environmental issues that will be addressed in the Draft EIS. Additional issues may be identified during the scoping process. Issues initially identified as potentially significant include:

1. Hydrology, including effects to the San Jacinto River and its floodplain and effects to groundwater, surface water and groundwater quality.

2. Biological resources, including impacts to wetlands, waters of the United States and Federal-listed threatened or endangered species and their habitat.

3. Land use and recreation.

4. Visual quality (aesthetics).

5. Geology and soils.

6. Transportation.

7. Cultural (historic and prehistoric) resources.

8. Noise.

9. Air quality.

10. Hazards and public safety.

The proposed project would require a number of Federal permits and approvals prior to implementation, including a Clean Water Act section 404 Permit, Clean Water Act section 401 Water Quality Certification and a Federal Endangered Species Act Incidental Take Permit.

4. Alternatives. In addition to EMWD's proposed project (the preferred alternative), the Draft EIS will evaluate reduced project and/or locational alternatives and a No Action Alternative.

5. Scoping Process. A public meeting will be held to receive public comments and assess public concerns regarding the appropriate scope and preparation of the Draft EIS. Participation in the public meeting by Federal, State and local agencies and other interested organizations and persons is encouraged. The Corps will also be consulting with the U.S. Fish and Wildlife Service under the Endangered Species Act and Fish and Wildlife Coordination Act. The scoping meeting for the Draft EIS will be held at the James Simpson Neighborhood/Senior Center, 305 E. Devonshire Avenue, Hemet, CA at 6:30 p.m. on March 8, 2005. Parties interested in being added to the Corps' electronic mail notification list can register at: http://www.spl.usace.army.mil/regulatory/register.html. This list will be used in the future to notify the public about scheduled hearings and availability of future public notices.

6. Availability of the Draft EIS. The Corps expects the Draft EIS to be made available to the public in June 2005. A public hearing will be held during the public comment period for the Draft EIS.

Alex C. Dornstauder,
Colonel, U.S. Army, District Engineer.

[FR Doc. 05-3975 Filed 3-1-05; 8:45 am]

BILLING CODE 3710-92-P